DEPARTMENT OF COMMERCE

National Oceanic and Atmospheric Administration

RIN 0648-XF19

Fisheries in the Western Pacific; Western Pacific Crustacean Fisheries; 2008 Harvest Guideline

AGENCY: National Marine Fisheries Service (NMFS), National Oceanic and Atmospheric Administration (NOAA), Commerce.

ACTION: Notification of harvest guideline for crustaceans.

SUMMARY: NMFS announces that the annual harvest guideline for the commercial lobster fishery in the Northwestern Hawaiian Islands (NWHI) for calendar year 2008 is established at zero lobsters.

FOR FURTHER INFORMATION CONTACT: Bob Harman, NMFS Pacific Islands Region, 808-944-2271.

SUPPLEMENTARY INFORMATION: The NWHI commercial lobster fishery is managed under the Fishery Management Plan for the Crustacean Fisheries of the Western Pacific Region (Crustaceans FMP). The regulations at 50 CFR 665.50(b)(2) require NMFS to publish an annual harvest guideline for lobster Permit Area 1, comprised of Federal waters around the NWHI.

The NWHI commercial lobster fishery, which operates almost exclusively within 50 nm of the NWHI archipelago, has been closed since 2000, initially as a precautionary action to prevent overfishing of spiny and slipper lobster resources while NMFS conducted biological research and assessed the status of the lobster stocks. In 2006, Presidential Proclamation No. 8031 established the NWHI Marine National Monument (later renamed the Papahanaumokuakea Marine National Monument). Regulations implementing the Proclamation, promulgated jointly by NOAA and the U.S. Fish and Wildlife Service, prohibit the unpermitted removal of monument resources (50 CFR 404.7) and establish a zero annual harvest guideline for lobsters (50 CFR 404.10(a)). Accordingly, NMFS establishes the harvest guideline at zero lobsters for the NWHI commercial lobster fishery for calendar year 2008; thus, no harvest of NWHI lobster resources is allowed.

Authority: 16 U.S.C. 1801 et seq.

Dated: January 24, 2008
Emily H. Menashes,
Acting Director, Office of Sustainable Fisheries, National Marine Fisheries Service.

[FR Doc. E8-1560 Filed 1-28-08; 8:45 am]

BILLING CODE 3510-22-S